ENVIRONMENTAL PROTECTION AGENCY

40 CFR Part 52

[NC89-200240(b); FRL-7395-4]

Approval and Promulgation of Implementation Plans North Carolina: Approval of Miscellaneous Revisions to Regulations Within the North Carolina State Implementation Plan

AGENCY: Environmental Protection Agency (EPA).

ACTION: Proposed rule.

SUMMARY: The EPA is proposing to approve the State Implementation Plan (SIP) revision submitted by the North Carolina Department of Environment and Natural Resources, for the purpose of amending regulations relating to ozone, particulate matter, and other miscellaneous rules within, the Air Pollution Control Requirements subchapter. In addition North Carolina has also submitted rule revisions to the General Provisions, Construction and Operations Permits and Exclusionary Rules sections of their Air Quality Permits Subchapter. In the Final Rules section of this Federal Register, the EPA is approving the North Carolina SIP revision as a direct final rule without prior proposal because the Agency views this as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this rule. The EPA will not institute a second comment period on this document. Any parties interested in commenting on this document should do so at this time.

DATES: Written comments must be received on or before November 21, 2002.

ADDRESSES: All comments should be addressed to: Randy Terry; Regulatory Development Section; Air Planning Branch; Air, Pesticides and Toxics Management Division; U.S. Environmental Protection Agency Region 4; 61 Forsyth Street, SW, Atlanta, Georgia 30303-8960.

Copies of documents relative to this action are available at the following addresses for inspection during normal business hours:

Environmental Protection Agency, Region 4, Air Planning Branch, 61 Forsyth Street, SW, Atlanta, Georgia 30303-8960. Randy Terry, 404/562-9032.

North Carolina Department of Environment and Natural Resources, 512 North Salisbury Street, Raleigh, North Carolina 27604.

FOR FURTHER INFORMATION CONTACT: Randy B. Terry, Regulatory Development Section, Air Planning Branch, Air, Pesticides and Toxics Management Division, Region 4, U.S. Environmental Protection Agency, 61 Forsyth Street, SW, Atlanta, Georgia 30303-8960. The telephone number is (404) 562-9032. Mr. Terry can also be reached via electronic mail at terry.randy@epa.gov.

SUPPLEMENTARY INFORMATION: For additional information see the direct final rule which is published in the Rules section of this Federal Register.

Dated: October 1, 2002.
A. Stanley Meiburg,
Acting Regional Administrator, Region 4.

[FR Doc. 02-26570 Filed 10-21-02; 8:45 am]

BILLING CODE 6560-50-P